DEPARTMENT OF AGRICULTURE

Agricultural Marketing Service

[Doc. No. AMS-NOP-20-0017; NOP-20-02]

National Organic Standards Board (NOSB): Call for Nominations

AGENCY: Agricultural Marketing Service, USDA.

ACTION: Notice; call for nominations

SUMMARY: The National Organic Standards Board (NOSB) was established to assist in the development of standards for substances to be used in organic production and to advise the Secretary on the implementation of the Organic Foods Production Act of 1990 (OFPA). Through this Notice, the United States Department of Agriculture (USDA) is announcing its call for nominations to fill five vacancies. Descriptions of the five positions are listed below under supplementary information. Appointees will serve a five-year term beginning January 24, 2021 and ending January 23, 2026. Additionally, the USDA seeks nominations for a pool of candidates that the Secretary of Agriculture can draw upon as replacement appointees if unexpected vacancies occur.

DATES: Written nominations must be postmarked on or before June 1, 2020.

ADDRESSES: Applications can be sent via email to Michelle Arsenault at Michelle.Arsenault@usda.gov, or mailed to: USDA-AMS-NOP, 1400 Independence Avenue SW, Room 2642-S, Ag Stop 0268, Washington, DC 20250-0268. Electronic submittals are preferred.

FOR FURTHER INFORMATION CONTACT: Michelle Arsenault, (202) 720-0081; Email: Michelle.Arsenault@usda.gov.

SUPPLEMENTARY INFORMATION: The OFPA, as amended (7 U.S.C. 6501-6524), requires the Secretary to establish the NOSB in accordance with the Federal Advisory Committee Act, as amended. The NOSB is composed of 15 members: Four individuals who own or operate an organic farming operation, or employees of such individuals; two individuals who own or operate an organic handling operation, or employees of such individuals; one individual who owns or operates a retail establishment with significant trade in organic products, or employees of such individuals; three individuals with expertise in areas of environmental protection and resource conservation; three individuals who represent public interest or consumer interest groups; one individual with expertise in the fields of toxicology, ecology, or biochemistry; and one individual who is a certifying agent.

Through this Notice, the USDA seeks to fill the following five positions: Two individuals who own or operate an organic farming operation, or employees of such individuals; two individuals who represent public interest or consumer interest groups; and one individual who is a USDA accredited certifying agent.

Per the OFPA, individuals seeking appointment to the NOSB must meet the definition of the position that they seek as identified under 7 U.S.C. 6518, as well as satisfy the selection criteria for an NOSB member. Selection criteria include the following: An understanding of organic principles and practical experience in the organic community; demonstrated experience and interest in organic production and organic certification; demonstrated experience with respect to agricultural products produced and handled on certified organic farms; a commitment to the integrity of the organic food and fiber industry; demonstrated experience in the development of public policy such as participation on public or private advisory boards, boards of directors, or other comparable organizations; support of consumer and public interest organizations; participation in standards development or involvement in educational outreach activities; the ability to evaluate technical information and to fully participate in Board deliberation and recommendations; the willingness to commit the time and energy necessary to assume Board duties; and other such factors as may be appropriate for specific positions.

All appointees will serve a five-year term beginning January 24, 2021, and ending January 23, 2026.

To nominate yourself or someone else, please submit the following: A resume (required), Form AD-755 (required), which can be accessed at: https://www.ocio.usda.gov/document/ad-755, a cover letter (optional), and a list of endorsements or letters of recommendation (optional). Resumes should be no longer than five (5) pages and should include the following information: The position for which you are applying; current and past organization affiliations; areas of expertise; education; career positions held; any other notable positions held. Previous applicants who wish to be considered must reapply.

If USDA receives a request under the Freedom of Information Act (FOIA) (5 U.S.C. 552) for records relating to NOSB nominations, application materials may be released to the requester. Prior to the release of the information, personally identifiable information protected by the Privacy Act, 5 U.S.C. 552a, will be redacted.

Nominations are open to all individuals without regard to race, color, religion, gender, national origin, age, mental or physical disability, marital status, or sexual orientation. To ensure that the recommendations of the NOSB take into account the needs of the diverse groups that are served by the Department, membership on the NOSB shall include, to the extent practicable, individuals with demonstrated ability to represent minorities, women, and persons with disabilities.

The information collection requirements concerning the nomination process have been previously cleared by the Office of Management and Budget (OMB) under OMB Control No. 0505-0001.

Bruce Summers,
Administrator, Agricultural Marketing Service.

[FR Doc. 2020-06618 Filed 3-30-20; 8:45 am]

BILLING CODE P